DEPARTMENT OF LABOR

Employee Benefits Security Administration

Publication of Year 2003 Form M-1 With Electronic Filing Option

AGENCY: Employee Benefits Security Administration, Department of Labor.

ACTION: Notice on the availability of the Year 2003 Form M-1 with electronic filing option.

SUMMARY: This document announces the availability of the Year 2003 Form M-1, Annual Report for Multiple Employer Welfare Arrangements and Certain Entities Claiming Exception. A copy of this new form is attached. It is substantively identical to the 2002 Form M-1, except that 2003 filings may be made electronically over the Internet.

FOR FURTHER INFORMATION CONTACT: For inquiries regarding the Form M-1 filing requirement, contact Amy J. Turner or Katina W. Lee, Office of Health Plan Standards and Compliance Assistance, at (202) 693-8335. For inquiries regarding electronic filing capability, contact the EBSA computer help desk at (202) 693-8600. Questions on completing the form are being directed to the EBSA Form M-1 help desk at (202) 693-8360.

SUPPLEMENTARY INFORMATION:

I. Background

The Form M-1 is required to be filed under section 101(g) and section 734 of the Employee Retirement Income Security Act of 1974, as amended (ERISA), and 29 CFR 2520.101-2.

II. The Year 2003 Form M-1

This document announces the availability of the Year 2003 Form M-1, Annual Report for Multiple Employer Welfare Arrangements (MEWAs) and Certain Entities Claiming Exception (ECEs). A copy of the new form is attached.

This year's Form M-1 is substantively identical to the Year 2002 Form M-1. However, the filing deadlines for the Year 2003 Form M-1 have been delayed due to the addition of the electronic filing option and to encourage filers to file the 2003 Form M-1 electronically. Specifically, the Year 2003 Form M-1 is now due May 1, 2004, with an extension until July 1, 2004 available.

The Employee Benefits Security Administration (EBSA) is committed to working together with administrators to help them comply with this filing requirement. Additional copies of the Form M-1 are available on the Internet at http://www.dol.gov/ebsa. In addition, after printing, copies will be available by calling the EBSA toll-free publication hotline at 1-866-444-EBSA (3272). Questions on completing the form are being directed to the EBSA help desk at (202) 693-8360.

Statutory Authority: 29 U.S.C. 1021-1025, 1027, 1029-31, 1059, 1132, 1134, 1135, 1181-1183, 1181 note, 1185, 1185a-b, 1191, 1191a-c; Secretary of Labor's Order No. 1-2003, 68 FR 5374 (February 2, 2003).

Signed at Washington, DC, this 5th day of February, 2004.
Ann L. Combs,
Assistant Secretary, Employee Benefits Security Administration.

BILLING CODE 4510-29-P

[FR Doc. 04-2985 Filed 2-10-04; 8:45 am]

BILLING CODE 4510-29-C